EQUAL EMPLOYMENT OPPORTUNITY COMMISSION

29 CFR Part 1614

RIN 3046-AA94

Affirmative Action for Individuals With Disabilities in Federal Employment

AGENCY: Equal Employment Opportunity Commission.

ACTION: Final rule; delay of effective date.

SUMMARY: In accordance with the Presidential directive in the memorandum from the Assistant to the President and Chief of Staff, dated January 20, 2017, and entitled “Regulatory Freeze Pending Review,” the U.S. Equal Employment Opportunity Commission (“EEOC”) is delaying the effective date of a final rule published in the Federal Register on January 3, 2017.

DATES: The effective date of the EEOC final rule published on January 3, 2017, at 82 FR 654, is delayed from March 6, 2017, to March 21, 2017.

FOR FURTHER INFORMATION CONTACT: Christopher Kuczynski, Assistant Legal Counsel, (202) 663-4665, or Aaron Konopasky, Senior Attorney-Advisor, (202) 663-4127 (voice), or (202) 663-7026 (TTY), Office of Legal Counsel, U.S. Equal Employment Opportunity Commission. (These are not toll free numbers.) Requests for this document in an alternative format should be made to the Office of Communications and Legislative Affairs at (202) 663-4191 (voice) or (202) 663-4494 (TTY). (These are not toll free numbers.)

SUPPLEMENTARY INFORMATION: On January 3, 2017, the EEOC published a final rule amending 29 CFR 1614.203 to clarify the affirmative action obligations that Section 501 of the Rehabilitation Act of 1973, 29 U.S.C. 791, imposes on federal agencies as employers. As clarified in a correction published on January 11, 2017, at 32 FR 3170, the rule was to become effective on March 6, 2017. On January 20, 2017, the White House issued a memorandum instructing Federal agencies to postpone until 60 days after January 20, 2017, the effective dates of any regulations that had been published in the Federal Register but had not yet taken effect, for the purpose of “reviewing questions of fact, law, and policy they raise.” The EEOC is, therefore, delaying the effective date of its final rule published on January 3, 2017, at 82 FR 654, until March 21, 2017.

For the Commission.
Dated: February 10, 2017.
Victoria A. Lipnic,
Acting Chair.

[FR Doc. 2017-03146 Filed 2-15-17; 8:45 am]

BILLING CODE 6570-01-P